NATIONAL SCIENCE FOUNDATION

Proposal Review Panel for Computing and Communication Foundations; Notice of Meeting

In accordance with the Federal Advisory Committee Act (Pub. L. 92-463, as amended), the National Science Foundation announces the following meeting:

Name: Proposal Review Panel for Expeditions in Computing (EIC) Program (#1192)—Site Visit.

Date/Time: November 11, 2014, 6:00 p.m.-9:00 p.m.; November 12, 2014, 8:00 a.m.-8:00 p.m.; November 13, 2014. 8:30 a.m.-3:00 p.m.

Place: University of California, Berkeley, Berkeley, CA.

Type of Meeting: Partial closed.

Contact Person For More Information: Christopher Clifton, National Science Foundation, 4201 Wilson Boulevard, Room 1122, Arlington, VA 22230. Telephone: (703) 292-8930.

Purpose of Meeting: To assess the progress of the EIC Award: CCF- 1139158, “Making Sense at Scale with Algorithms, Machines, and People”, and to provide advice and recommendations concerning further NSF support for the project.

Agenda: EIC Site Visit.

Tuesday, November 11, 2014

6:00 p.m. to 9:00 p.m.: Closed. Site Team and NSF Staff meets to discuss Site Visit materials, review process and charge.

Wednesday, November 12, 2014

8:00 a.m. to 1:00 p.m.: Open. Presentations by Awardee Institution, faculty staff and students to Site Team and NSF Staff; Discussions and question and answer sessions.

1:00 p.m.-8:00 p.m.: Closed. Draft report on education and research activities.

Thursday, November 13, 2014

8:30 a.m.-noon: Open. Response presentations by Site Team and NSF Staff Awardee Institution; Discussions and question and answer sessions.

Noon to 3:00 p.m.: Closed. Complete written site visit report with preliminary recommendations.

Reason For Late Notice: Due to unforeseen scheduling complications and the necessity to proceed with the review of project.

Reason For Closing: The proposals being reviewed include information of a proprietary or confidential nature, including technical information; financial data, such as salaries; and personal information concerning individuals associated with the proposals. These matters are exempt under 5 U.S.C. 552b(c), (4) and (6) of the Government in the Sunshine Act.

Dated: November 3, 2014.
Suzanne Plimpton,
Acting Committee Management Officer.

[FR Doc. 2014-26363 Filed 11-5-14; 8:45 am]

BILLING CODE 7555-01-P